DEPARTMENT OF ENERGY

Federal Energy Regulatory Commission

[Docket No. RP03-530-000]

Portland Natural Gas Transmission System; Notice of Proposed Change in FERC Gas Tariff

July 2, 2003.

Take notice that on June 27, 2003, Portland Natural Gas Transmission System (PNGTS) tendered for filing as part of its FERC Gas Tariff, Original Volume No. 1, First Revised Sheet No. 366, to become effective on August 1, 2003.

PNGTS states that the purpose of its filing is to clarify PNGTS's billing procedures in the event that PNGTS, pursuant to an agreement with a shipper, incurs third-party charges to provide service to such shipper. PNGTS states that its proposed tariff provision is similar to third-party billing provisions in other pipeline tariffs.

Specifically, PNGTS is proposing a new subsection 15.8 to the Billings and Payment section of the General Terms and Conditions of its FERC Gas Tariff, which states in pertinent part that “If Shipper requests, and Transporter agrees, that Transporter shall, to provide service to Shipper, use service which Transporter has contracted for with third party(s) for the benefit of Shipper, Shipper shall pay Transporter an amount equal to the charges Transporter is obligated to pay such third party(s), which charges may include, but are not limited to, reservation and/or usage charges and surcharges, fuel charges, compression fees, balancing or storage fees, measurement fees, processing fees, and/or facility charges.” Subsection 15.8 also provides that any such third party charges shall be set forth as a separate item on billings rendered to Shipper.

PNGTS also states that copies of this filing are being served on all jurisdictional customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: July 9, 2003.
Magalie R. Salas,
Secretary.

[FR Doc. 03-18945 Filed 7-24-03; 8:45 am]

BILLING CODE 6717-01-P